DEPARTMENT OF COMMERCE

National Oceanic and Atmospheric Administration

50 CFR Part 622

[Docket No. 140501394-5279-02]

RIN 0648-XD962

Fisheries of the Caribbean, Gulf of Mexico, and South Atlantic; 2015 Recreational Accountability Measure and Closure for Blueline Tilefish in the South Atlantic Region

AGENCY: National Marine Fisheries Service (NMFS), National Oceanic and Atmospheric Administration (NOAA), Commerce.

ACTION: Temporary rule; closure.

SUMMARY: NMFS implements accountability measures (AMs) for recreational blueline tilefish in the exclusive economic zone (EEZ) of the South Atlantic. The NMFS Science and Research Director estimates that recreational landings for blueline tilefish have reached the recreational annual catch limit (ACL). Therefore, NMFS is closing the recreational sector for blueline tilefish in the South Atlantic EEZ at 12:01 a.m., local time, June 10, 2015, and it will remain closed until the 2016 recreational fishing season begins on May 1, 2016. This closure is necessary to protect the blueline tilefish resource.

DATES: This rule is effective 12:01 a.m., local time, June 10, 2015, until 12:01 a.m., local time, January 1, 2016.

FOR FURTHER INFORMATION CONTACT: Catherine Hayslip, NMFS Southeast Region, telephone: 727-824-5305, email: catherine.hayslip@noaa.gov.

SUPPLEMENTARY INFORMATION: The snapper-grouper fishery of the South Atlantic includes blueline tilefish and is managed under the Fishery Management Plan for the Snapper-Grouper Fishery of the South Atlantic Region (FMP). The South Atlantic Fishery Management Council and NMFS prepared the FMP, and the FMP is implemented under the authority of the Magnuson-Stevens Fishery Conservation and Management Act (Magnuson-Stevens Act) by regulations at 50 CFR part 622.

NMFS implemented management measures for blueline tilefish in Amendment 32 to the FMP for the Snapper-Grouper Fishery of the South Atlantic Region (Amendment 32) (80 FR 16583, March 30, 2015). Amendment 32 contains management measures that end overfishing of blueline tilefish in the South Atlantic.

NMFS is required to close the recreational sector for blueline tilefish when the recreational ACL is reached, or is projected to be reached, by filing a notification to that effect with the Office of the Federal Register, as specified in 50 CFR 622.193(z)(2)(i). The recreational ACL for blueline tilefish in 2015 is 17,791 lb (8,070 kg), round weight. NMFS has determined that the recreational ACL for South Atlantic blueline tilefish has been reached. Accordingly, the recreational sector for South Atlantic blueline tilefish is closed effective June 10, 2015, until 12:01 a.m., local time, January 1, 2016, the start of the next fishing year. However, as described in 50 CFR 622.183(b)(7), the recreational sector for blueline tilefish is also closed from January 1 through April 30, and September 1 through December 31, each year. Therefore, the recreational sector may not harvest blueline tilefish until May 1, 2016.

During the closure, the bag and possession limits for blueline tilefish in or from the South Atlantic EEZ are zero. Additionally, NMFS closed the commercial sector for blueline tilefish effective April 7, 2015, upon reaching the commercial ACL (80 FR 18551, April 7, 2015). Therefore, on June 10, 2015, no commercial or recreational harvest of blueline tilefish from the South Atlantic EEZ is permitted for the remainder of 2015. The commercial sector for blueline tilefish reopens on January 1, 2016.

Classification

The Regional Administrator, Southeast Region, NMFS, has determined this temporary rule is necessary for the conservation and management of blueline tilefish and the South Atlantic snapper-grouper fishery and is consistent with the Magnuson-Stevens Act and other applicable laws.

This action is taken under 50 CFR 622.193(z)(2)(i) and is exempt from review under Executive Order 12866.

These measures are exempt from the procedures of the Regulatory Flexibility Act because the temporary rule is issued without opportunity for prior notice and comment.

This action responds to the best scientific information available. The Assistant Administrator for Fisheries, NOAA (AA), finds that the need to immediately implement this action to close the recreational sector for blueline tilefish constitutes good cause to waive the requirements to provide prior notice and opportunity for public comment pursuant to the authority set forth in 5 U.S.C. 553(b)(B), as such prior notice and opportunity for public comment are unnecessary and contrary to the public interest. Such procedures are unnecessary because the regulations at 50 CFR 622.193(z)(2)(i) have already been subject to notice and comment, and all that remains is to notify the public of the closure. Such procedures are contrary to the public interest because there is a need to immediately implement this action to protect blueline tilefish, since the capacity of the recreational sector allows for rapid harvest of the recreational ACL. Prior notice and opportunity for public comment would require time and would potentially result in a harvest well in excess of the established recreational ACL.

For the aforementioned reasons, the AA also finds good cause to waive the 30-day delay in the effectiveness of this action under 5 U.S.C. 553(d)(3).

Authority: 16 U.S.C. 1801 et seq.

Dated: June 4, 2015.
Emily H. Menashes,
Acting Director, Office of Sustainable Fisheries, National Marine Fisheries Service.

[FR Doc. 2015-14048 Filed 6-5-15; 8:45 am]

BILLING CODE 3510-22-P